DEPARTMENT OF JUSTICE

Drug Enforcement Administration

[Docket No. DEA-392]

Manufacturer of Controlled Substances Registration: Cody Laboratories, Inc.

ACTION: Notice of registration.

SUMMARY: Cody Laboratories, Inc. applied to be registered as a manufacturer of certain basic classes of narcotic or non-narcotic controlled substances. The DEA grants Cody Laboratories, Inc. registration as a manufacturer of those controlled substances.

SUPPLEMENTARY INFORMATION: By notice dated December 31, 2013, and published in the Federal Register on January 10, 2014, 79 FR 1890, Cody Laboratories, Inc., 601 Yellowstone Avenue, Cody, Wyoming 82414-9321, applied to be registered as a manufacturer of certain basic classes of narcotic or non-narcotic controlled substances.

The Drug Enforcement Administration (DEA) has considered the factors in 21 U.S.C. 823(a) and determined that the registration of Cody Laboratories, Inc. to manufacture the basic classes of controlled substances is consistent with the public interest and with United States obligations under international treaties, conventions, or protocols in effect on May 1, 1971. The DEA investigated the company's maintenance of effective controls against diversion by inspecting and testing the company's physical security systems, verified the company's compliance with state and local laws, and reviewed the company's background and history.

Therefore, pursuant to 21 U.S.C. 823(a), and in accordance with 21 CFR 1301.33, the above-named company is granted registration as a bulk manufacturer of the basic classes of narcotic or non-narcotic controlled substances listed:

Controlled Substance | Schedule
Dihydromorphine (9145) | I
Amphetamine (1100) | II
Methamphetamine (1105) | II
Methylphenidate (1724) | II
Amobarbital (2125) | II
Pentobarbital (2270) | II
Secobarbital (2315) | II
4-Anilino-N-phenethyl-4-piperidine (ANPP) (8333) | II
Phenylacetone (8501) | II
Cocaine (9041) | II
Codeine (9050) | II
Dihydrocodeine (9120) | II
Oxycodone (9143) | II
Hydromorphone (9150) | II
Diphenoxylate (9170) | II
Ecgonine (9180) | II
Hydrocodone (9193) | II
Meperidine (9230) | II
Methadone (9250) | II
Morphine (9300) | II
Thebaine (9333) | II
Oxymorphone (9652) | II
Alfentanil (9737) | II
Remifentanil (9739) | II
Sufentanil (9740) | II
Tapentadol (9780) | II
Fentanyl (9801) | II

The company plans to manufacture the listed controlled substances in bulk for sale to its customers.

No comments or objections have been received.

Dated: May 27, 2014.
Joseph T. Rannazzisi,
Deputy Assistant Administrator.

[FR Doc. 2014-12799 Filed 6-2-14; 8:45 am]

BILLING CODE 4410-09-P